DEPARTMENT OF COMMERCE

National Oceanic and Atmospheric Administration

[RTID 0648-XA916]

Mid-Atlantic Fishery Management Council (MAFMC); Public Hearings

AGENCY: National Marine Fisheries Service (NMFS), National Oceanic and Atmospheric Administration (NOAA), Commerce.

ACTION: Notice of public hearings; request for comments.

SUMMARY: The Mid-Atlantic Fishery Management Council (Council) and the Atlantic States Marine Fisheries Commission (Commission) will hold five public hearings via webinar and a written comment period to solicit public comments on a developing a management action that considers initiation and/or modifications to the bluefish fishery management plan goals and objectives, sector allocations, commercial allocations to the states, rebuilding plan, transfer processes, accounting of management uncertainty, and the de minimis provisions.

DATES: The webinar hearings will be held between March 24 and April 8, 2021. Each hearing will take place from 6 p.m. to 8 p.m. EST. Written comments must be received on or before 11:59 p.m. EST, April 23, 2021. See SUPPLEMENTARY INFORMATION for more details, including the dates and times for all hearings.

ADDRESSES: All hearings will be hosted through GoToWebinar. You must use GoToWebinar to speak during the hearings. A listen-only call in option is also available. Participants will not be able to speak through the listen-only phone connection. To access any of the webinar hearings, please follow the registration prompts at https://register.gotowebinar.com/rt/1167425575591673359. To attend the webinar in listen only mode without the ability to speak, you may dial 1-866-901-6455 and enter access code 140-544-592.

A public hearing document with more information on this action is available at: https://www.mafmc.org/actions/bluefish-allocation-amendment. Copies of the document are also available by request from Dr. Chris Moore, Executive Director, Mid-Atlantic Fishery Management Council, 800 N State Street, Suite 201, Dover, DE 19901; telephone: (302) 674-2331.

Public comments: Written comments may be sent by any of the following methods:

• Email to: mseeley@mafmc.org (subject: “Bluefish Amendment”)

• Via webform at: https://www.mafmc.org/comments/bluefish-allocation-rebuilding-amendment.

• Mail to: Chris Moore, Ph.D., Executive Director, Mid-Atlantic Fishery Management Council, 800 North State Street, Suite 201, Dover, DE 19901. Mark the outside of the envelope “Bluefish Amendment.”

• Fax to: 302.674.5399 (subject: “Bluefish Amendment”)

FOR FURTHER INFORMATION CONTACT: Christopher M. Moore, Ph.D., Executive Director, Mid-Atlantic Fishery Management Council, telephone: (302) 526-5255.

SUPPLEMENTARY INFORMATION: The Mid-Atlantic Fishery Management Council (Council) and the Atlantic States Marine Fisheries Commission (Commission) are developing a joint action to address the overfished status via a rebuilding plan, as well as consider adjusting the bluefish fishery management plan goals and objectives, sector allocations, commercial allocations to the states, transfer processes, the approach to account for management uncertainty, and the de minimis provisions. The commercial and recreational allocations are currently based on historical landings from 1981-1989. Recent changes in how recreational catch is estimated have resulted in a discrepancy between the current levels of estimated recreational harvest and the allocations to the recreational sector. This action will consider whether modifications to the allocations are needed in light of these and other changes in the fisheries. Additional information on this action is available at: https://www.mafmc.org/actions/bluefish-allocation-amendment.

The dates and times of the five webinar hearings are listed below. You are encouraged to participate in the hearing for your state or region; however, all hearings are open to all individuals.

1. North Carolina, South Carolina, Georgia, and Florida: Wednesday, March 24, 2021; 6-8 p.m. EST.

2. Delaware, Maryland, Potomac River Fisheries Commission, and Virginia: Thursday, March 25, 2021. 6-8 p.m. EST.

3. Connecticut and New York: Tuesday, March 30, 2021; 6-8 p.m. EST.

4. Maine, New Hampshire, Massachusetts, and Rhode Island: Thursday, April 1, 2021. 6-8 p.m. EST.

5. New Jersey: Thursday, April 8, 2021. 6-8 p.m. EST.

Special Accommodations

These hearings are physically accessible to people with disabilities. Requests for sign language interpretation or other auxiliary aids should be directed to Kathy Collins at the Mid-Atlantic Council Office, (302) 526-5253, at least 5 days prior to the meeting date.

Authority: 16 U.S.C. 1801 et seq.

Dated: March 3, 2021.
Tracey L. Thompson,
Acting Deputy Director, Office of Sustainable Fisheries, National Marine Fisheries Service.

[FR Doc. 2021-04754 Filed 3-5-21; 8:45 am]

BILLING CODE 3510-22-P